DEPARTMENT OF TRANSPORTATION

Pipeline and Hazardous Materials Safety Administration

[Docket No. PHMSA-2023-0009]

Safety of Underground Natural Gas Storage Public Meeting

Correction

In notice document 2023-07072, appearing on pages 20208 through 20209 in the issue of Wednesday, April 5, 2023, make the following correction:

On page 20208, in the seventh and eighth lines of the ADDRESSES section, the link should read: “https://primis.phmsa.dot.gov/meetings/MtgHome.mtg?mtg=164”.

[FR Doc. C1-2023-07072 Filed 5-4-23; 8:45 am]

BILLING CODE 0099-10-D